DEPARTMENT OF TRANSPORTATION

Federal Highway Administration

Supplemental Environmental Impact Statement, City of Newport News and City of Hampton to the City of Norfolk, City of Portsmouth, City of Suffolk, and City of Chesapeake, Virginia

AGENCY: Federal Highway Administration (FHWA), DOT.

ACTION: Notice of Intent to prepare a Supplemental Environmental Impact Statement.

SUMMARY: The Federal Highway Administration (FHWA) in cooperation with the Virginia Department of Transportation (VDOT) will prepare a Supplemental Environmental Impact Statement (SEIS) to evaluate the Hampton Roads Crossing Study Final Environmental Impact Statement (FEIS). The purpose of the SEIS is to evaluate new information regarding environmental impacts and the alternatives described in the March 2001 FEIS.

FOR FURTHER INFORMATION CONTACT: Edward Sundra, Director of Program Development, Federal Highway Administration, 400 North 8th Street, Suite 750, Richmond, VA 23219; email: Ed.Sundra@dot.gov; (804) 775-3357.

SUPPLEMENTARY INFORMATION:

1. Description of the Proposed Action and Background—In 1991, the Intermodal Surface Transportation Efficiency Act allocated demonstration funds for a number of innovative projects which included the I-64 crossing of Hampton Roads. A Major Investment Study of the crossing was completed in 1997, and the Hampton Roads Crossing Study Draft Environmental Impact Statement (DEIS) was issued in March 1999. The FEIS for the study was issued in March 2001, identifying Candidate Build Alternative (CBA) 9 as the preferred alternative. FHWA selected CBA 9 in a Record of Decision that was issued in June 2001. In 2003, FHWA completed a National Environmental Policy Act (NEPA) re-evaluation after VDOT received unsolicited proposals from the private sector to build the project. Efforts to advance the private sector proposals were eventually terminated, but portions of CBA 9, collectively known as Patriots Crossing, were re-evaluated in 2013 because there was support to move forward on that section. At the time, no federal action was taken in response to the re-evaluation because there was no funding to construct the project in the Hampton Roads Transportation Planning Organization's fiscally constrained long range transportation plan. FHWA and VDOT also studied separate improvements to the Hampton Roads Bridge Tunnel in a DEIS that was issued in December 2012. A preferred alternative was not selected following the circulation of the DEIS, and the study has not advanced. With a separate notice, the Notice of Intent to prepare an EIS for the Hampton Roads Bridge Tunnel will be cancelled. Regardless, this SEIS will review information from the Hampton Roads Bridge Tunnel DEIS, Hampton Roads Crossing Study FEIS/ROD, and the NEPA re-evaluations referenced above and incorporate relevant information into the SEIS; revisit the purpose and need; update the alternatives and impacts analyses; and assess impacts not previously evaluated in these NEPA documents.

2. Alternatives—Alternatives to be considered for the proposed project will include but not be limited to the No-Build Alternative and the selected alternative from the 2001 FEIS/ROD (CBA-9). The selected alternative, as described in the FEIS/ROD, would begin on the Peninsula at the I-664/I-64 interchange in the City of Hampton and would widen I-664 to the I-64/I-264 interchange in the City of Chesapeake. An interchange with I-664 near the south approach structure of the Monitor Merrimac Memorial Bridge Tunnel would provide a connection to a new roadway and bridge tunnel extending from I-664 over to I-564 in the City of Norfolk. A second interchange on the new facility would provide a connection to a new roadway running south along the eastern side of Craney Island, terminating at Virginia Route 164 (Western Freeway) in the City of Portsmouth. Revisions to the location of the alignment between Craney Island and Virginia Route 164 will be evaluated because of new information regarding the land use in the area.

Consideration will also be given to the alternatives from the 1999 DEIS to improve the Hampton Roads Bridge Tunnel (CBA-1) and an alternative to extend the improvements included in CBA-1 south to I-564 where a new bridge tunnel would cross the Elizabeth River and connect to VA 164 in the City of Portsmouth (CBA-2). Finally, consideration will be given to alternatives based on public and agency feedback during the scoping process. The SEIS will document the alternatives previously eliminated from consideration as well as consider options for tolling.

3. Scoping and Public Review Process—Throughout the development of the Hampton Roads Crossing Study EIS, a variety of scoping and public involvement opportunities were provided to notify the public about the project, provide information and updates, and solicit feedback. These opportunities included but were not limited to a series of public hearings in the corridor when the Hampton Roads Crossing Study DEIS was issued in 1999. To ensure that a full range of issues related to the project are addressed and all significant issues identified, VDOT will host two Citizen Information/Scoping Meetings in July. Those meetings are scheduled for Tuesday, July 21st at the Academy for Discovery at Lakewood School in Norfolk and Wednesday, July 22nd at St. Mary's Star of the Sea School in Hampton. VDOT will provide additional information for the meetings and notify the public of any changes, including inclement weather dates, through a variety of means including newspaper notices and a project Web site. A separate meeting for the resource, regulatory, and participating agencies is also scheduled for July 21st, and notices will be sent directly to those agencies.

Notification of the availability of the Draft SEIS for public and agency review will be made in the Federal Register and using other methods to be jointly determined by FHWA and VDOT. Those methods will identify where interested parties can go to review a copy of the Draft SEIS. For the Draft SEIS, public meetings will be held and a minimum 45-day comment period will be provided. The public meetings will be conducted by VDOT and announced a minimum of 30 days in advance of the meetings. At the appropriate time, VDOT will provide information for the public meetings, including date, time and location through a variety of means including newspaper notice and the project Web site.

4. Issues—Based on coordination between FHWA and VDOT, the issues to be analyzed in the SEIS will include, but are not limited to, purpose and need, alternatives and environmental effects including effects to wetlands and streams, cultural resources, threatened and endangered species, and environmental justice communities.

5. Additional Review and Consultation—The SEIS will comply with other Federal and State requirements including the State water quality certification under Section 401 of the Clean Water Act; protection of water quality under the Virginia/National Pollutant Discharge Elimination System; protection of endangered and threatened species under Section 7 of the Endangered Species Act; and protection of cultural resources under Section 106 of the National Historic Preservation Act.

Authority: 23 U.S.C. 315; 23 CFR 771.

(Catalog of Federal Domestic Assistance Program Number 20.205, Highway Planning and Construction. The regulations implementing Executive Order 12372 regarding intergovernmental consultation on Federal programs and activities apply to this program.)

Issued by:
Dated: June 17, 2015.
Edward Sundra,
Director of Program Development, Federal Highway Administration, Richmond, Virginia.

[FR Doc. 2015-15419 Filed 6-22-15; 8:45 am]

BILLING CODE 4910-22-P